DEPARTMENT OF COMMERCE

International Trade Administration

[A-428-825]

Stainless Steel Sheet and Strip in Coils From Germany; Antidumping Duty Administrative Review; Extension of Time Limits

AGENCY: Import Administration, International Trade Administration, Department of Commerce.

ACTION: Notice of extension of time limits.

SUMMARY: The Department of Commerce (the Department) is extending the time limits for the final results of the 2000-2001 administrative review of the antidumping duty order on stainless steel sheet and strip in coils from Germany. This review covers one manufacturer/exporter of the subject merchandise to the United States and the period July 1, 2000 through June 30, 2001.

EFFECTIVE DATE: October 4, 2002.

FOR FURTHER INFORMATION CONTACT: Patricia Tran at (202) 482-1121 or Robert James at (202) 482-0649, Antidumping and Countervailing Duty Enforcement Group III, Office Eight, Import Administration, International Trade Administration, U.S. Department of Commerce, 14th Street and Constitution Avenue NW., Washington, DC 20230.

SUPPLEMENTARY INFORMATION: On August 7, 2002, we published the preliminary results of this administrative review. See Stainless Steel Sheet and Strip in Coils from Germany; Notice of Preliminary Results of Antidumping Duty Administrative Review 67 FR 51199 (August 7, 2002). Currently, the final results in this administrative review are due on December 5, 2002. Pursuant to section 751(a)(3)(A) of the Act, the Department may extend the deadline for completion of an administrative review if it determines that it is not practicable to complete the final results of the review within the normal statutory time limit. Because petitioners' and respondent's case and rebuttal briefs raise complicated issues, such as major inputs from affiliated and unaffiliated suppliers, downstream home market sales, and application of facts available, the Department determines it is not practicable to complete this review within the normal statutory time limit. Therefore, the Department is extending the time limits for completion of the final results until February 3, 2003, in accordance with section 751(a)(3)(A) of the Tariff Act of 1930, as amended.

Dated: September 27, 2002.
Joseph A. Spetrini,
Deputy Assistant Secretary for Import Administration, Group III.

[FR Doc. 02-25306 Filed 10-3-02; 8:45 am]

BILLING CODE 3510-DS-P